DEPARTMENT OF AGRICULTURE

Natural Resources Conservation Service

[Docket No. NRCS-2015-0002]

Notice of Meeting of the Agricultural Air Quality Task Force

AGENCY: Natural Resources Conservation Service, USDA.

ACTION: Notice of meeting.

SUMMARY: The U.S. Department of Agriculture (USDA) Agricultural Air Quality Task Force (AAQTF) will meet for discussions on critical air quality issues relating to agriculture. Special emphasis will be placed on obtaining a greater understanding about the relationship between agricultural production and air quality. The meeting is open to the public, and a draft agenda is included in this notice.

DATES: The meeting will convene at 8:00 a.m. EDT on Wednesday and Thursday April 22-23, 2015. A public comment period will be held on the morning of April 23. The meeting will end at approximately noon on April 23.

ADDRESSES: The meeting will be held in Room 156/157 of the Plant Biotechnology building at the University of Tennessee, 2505 E. J. Chapman Drive, Knoxville, TN 37996.

FOR FURTHER INFORMATION CONTACT: Questions and comments should be directed to Dr. Greg Johnson, Designated Federal Official, USDA, NRCS, 1201 Lloyd Boulevard, Suite 1000, Portland Oregon 97232; telephone: (503) 273-2424; fax: (503) 273-2401; or email: greg.johnson@por.usda.gov.

SUPPLEMENTARY INFORMATION: Notice of this meeting is given under the Federal Advisory Committee Act, 5 U.S.C. App. 2. Additional information concerning AAQTF, including any revised agendas for the April 22-23, 2015 meeting that occurs after this Federal Register Notice is published, may be found at: www.nrcs.usda.gov/wps/portal/nrcs/detail/national/air/taskforce.

Draft Agenda

Meeting of the AAQTF

April 22-23, 2015

Knoxville, Tennessee

A. Welcome remarks and introductions

B. An overview of Tennessee agriculture

C. USDA, NRCS, and Tennessee agriculture and forestry

D. Update on agricultural air quality regulatory issues at the Environmental Protection Agency

E. AAQTF Subcommittee reports

F. Agriculture, forestry, and sustainability issues

G. Great Smoky Mountains National Park plant-ozone issues

H. Updates from USDA agencies (Forest Service, NRCS, NIFA, and ARS)

I. Selected agricultural air quality research presentations

J. Public Input (Individual presentations limited to 5 minutes)

Please note that the timing of events in the agenda is subject to change to accommodate changing schedules of expected speakers and or extended discussions.

Procedural

This meeting is open to the public. On April 23, 2015, the public will have an opportunity to provide up to 5 minutes of input to the AAQTF.

Information on Services for Individuals With Disabilities

For information on facilities or services for individuals with disabilities or to request special assistance at the meeting, please contact Greg Johnson (contact information listed above). USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA's Target Center at (202) 720-2000 (voice and TDD).

Signed this 18th day of March 2015, in Washington, DC
Jason A. Weller,
Chief.

[FR Doc. 2015-06617 Filed 3-23-15; 8:45 am]

BILLING CODE 3410-16-P